DEPARTMENT OF STATE

[Public Notice 8297]

State Department Advisory Committee on Private International Law; Closed Meeting

In accordance with section 10(a) of the Federal Advisory Committee Act, 5 U.S.C. App § 10(a), the Department of State announces a meeting of the full Advisory Committee on International Law (ACPIL) to take place on May 13, 2013, at the Department of State, Washington, DC.

Pursuant to section 10(d) of the Federal Advisory Committee Act, 5 U.S.C. App § 10(d), and 5 U.S.C. 552b(c)(9)(B), it has been determined that this ACPIL meeting will be closed to the public because the ACPIL will be discussing matters the public disclosure of which would be likely to significantly frustrate Department negotiations in an upcoming international forum.

For more information, contact Tricia Smeltzer at 202-776-8423 or smeltzertk@state.gov, or Niesha Toms at 202-776-8420, tomsnn@state.gov.

Dated: April 1, 2013.
Keith Loken,
Assistant Legal Adviser, Private International Law.

[FR Doc. 2013-09955 Filed 4-25-13; 8:45 am]

BILLING CODE 4710-08-P